INTERNATIONAL TRADE COMMISSION

[USITC SE-07-030]

Government in the Sunshine Act Meeting Notice

Agency Holding the Meeting: United States International Trade Commission.

Time and Date: January 8, 2008 at 11 a.m.

Place: Room 101, 500 E Street, SW., Washington, DC 20436, Telephone: (202) 205-2000.

Status: Open to the public.

Matters To Be Considered: 1. Agenda for future meetings: None.

2. Minutes.

3. Ratification List.

4. Inv. Nos. 701-TA-413 and 731-TA-913-916 and 918 (Review) (Stainless Steel Bar from France, Germany, Italy, Korea, and the United Kingdom)—briefing and vote. (The Commission is currently scheduled to transmit its determinations and Commissioners' opinions to the Secretary of Commerce on or before January 23, 2008.)

5. Outstanding action jackets: (1.) Document No. GC-07-225 (Administrative matter).

In accordance with Commission policy, subject matter listed above, not disposed of at the scheduled meeting, may be carried over to the agenda of the following meeting.

Issued: December 27, 2007.
By order of the Commission.
William R. Bishop,
Hearings and Meetings Coordinator.

[FR Doc. E7-25461 Filed 12-31-07; 8:45 am]

BILLING CODE 7020-02-P